EXPORT-IMPORT BANK OF THE UNITED STATES

[Public Notice 54]

Availability of Guidelines for Ensuring and Maximizing the Quality, Objectivity, Utility, and Integrity of Information Disseminated by the Export-Import Bank of the United States

AGENCY: Export-Import Bank of the United States.

ACTION: Notice of availability of guidelines.

SUMMARY: The Export-Import Bank's (Ex-Im Bank) Information Quality Guidelines will be available for public access on Ex-Im Bank's web site http://www/exim.gov/omb/dataquality.doc, on October 1, 2002. The Information Quality Guidelines describe Ex-Im Bank's procedures for reviewing and substantiating the quality of information before it is disseminated to the public, and the procedures by which an affected person may request correction of information disseminated by Ex-Im Bank that does not comply with the information quality guidelines.

EFFECTIVE DATE: October 1, 2002.

FOR FURTHER INFORMATION CONTACT: Kalesha Malloy, Office of the Chief Information Officer, Information Management & Technology Group, 811 Vermont Ave, NW., Room 763, Washington, DC 20571; phone (202) 565-3857, email to kalesha.malloy@exim.gov; fax (202) 565-3424.

SUPPLEMENTARY INFORMATION: Section 515 of the Treasury and General Government Appropriations Act for Fiscal Year 2001 (Pub. L. 106-554) directs OMB to issue government-wide guidelines that provide policy and procedural guidance to Federal agencies for ensuring and maximizing the quality, objectivity, utility, and integrity of information disseminated by Federal agencies. The OMB guidelines require each agency to prepare a final report providing the agency's information quality guidelines. Each agency is further required to publish a notice of availability of this final report in the Federal Register and to post this report on its web site. As required by OMB's guidelines, Ex-Im Bank is publishing in the Federal Register a notice of availability of the guidelines on its Web site http://www.exim.gov/omg/dataquality.doc.

Dated: September 27, 2002.
Patrick O'Hare,
Chief Information Officer, Information Management & Technology Group, Export-Import Bank of the United States.

[FR Doc. 02-28038 Filed 11-4-02; 8:45 am]

BILLING CODE 6690-01-M